DEPARTMENT OF ENERGY

Federal Energy Regulatory Commission

[Project No. 12966-004]

Utah Board of Water Resources; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Major Unconstructed Project.

b. Project No.: 12966-004.

c. Date Filed: May 2, 2016.

d. Applicant: Utah Board of Water Resources.

e. Name of Project: Lake Powell Pipeline Project.

f. Location: The proposed project would be located in Washington and Kane counties, Utah, and in Coconino and Mohave counties, Arizona. The project would occupy 449 acres of federal land managed by the Bureau of Land Management (BLM).

g. Filed Pursuant to: Federal Power Act, 16 U.S.C. 791(a)-825(r).

h. Applicant Contact: Applicant Contact: Joel Williams, Project Manager, Utah Division of Water Resources; Telephone (801) 538-7249 or joelwilliams@utah.gov.

i. FERC Contact: Jim Fargo, (202) 502-6095 or james.fargo@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12966-004.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now is ready for environmental analysis.

l. The proposed 140-mile-long Lake Powell Pipeline Project would convey water from the Bureau of Reclamation's Lake Powell through a buried 69-inch diameter pipeline up to a high point within the Grand Staircase-Escalante National Monument, after which it would flow for about 87.5 miles through a series of hydroelectric turbines, ending at Sand Hollow reservoir, near St. George, Utah.

The proposed hydro facilities subject to the Federal Energy Regulatory Commission's jurisdiction under Part I of the Federal Power Act include: (1) An inline single-unit, 1-megawatt (MW) facility at Hydro Station 1 in the Grand Staircase-Escalante National Monument; (2) an inline single-unit, 1.7-MW facility at Hydro Station 2 east of Colorado City, Arizona; (3) an inline single-unit, 1-MW facility in Hildale City, Utah; (4) an inline single-unit, 1.7-MW facility above the Hurricane Cliffs forebay reservoir; (5) a 2-unit, 300-MW (150-MW each unit) hydroelectric pumped storage development at Hurricane Cliffs, with the forebay and afterbay sized to provide ten hours of continuous 300-MW output; (6) a single-unit, 35-MW conventional energy recovery generation unit built within the Hurricane Cliffs development; (7) a single-unit, 5-MW facility at the existing Sand Hollow Reservoir and (8) related transmission lines.

In its application, the applicant proposes to define the FERC-licensed hydro system to include not only the power-generating facilities noted above, but also approximately 89 miles of water delivery pipelines that connect these facilities. The Commission has not yet determined whether these water delivery pipelines will be included as part of the licensed hydro facilities. If the Commission licenses only the power generating facilities and excludes the intervening pipelines, federal land-managing agencies will be responsible for issuing rights-of-way permits for those parts of the pipelines that are located on federal lands. If the Commission determines that it should also license the intervening pipelines, federal land-managing agencies may also be permitted to file conditions under section 4(e) of the Federal Power Act for the protection and utilization of any federal reservations that the pipelines will occupy, depending on which pipeline route is selected.

In particular, the applicant proposes to use the south alternative route for the pipeline, which does not cross the Kaibab Reservation. In Scoping Document 2, Commission staff stated that the environmental impact statement for the Lake Powell Pipeline Project will include an alternative pipeline route across the Kaibab Reservation. Depending on the scope of the FERC-licensed hydro system, this alternative may or may not be subject to section 4(e) of the Federal Power Act. To cover both possibilities, Interior should provide preliminary section 4(e) conditions for the Kaibab Reservation alternative, and should also provide any proposed rights-of-way conditions for that route if those conditions would differ from the section 4(e) conditions, in the event that the Commission determines not to include the pipelines as part of the licensed Hydro System. The applicant included unsigned rights-of-way permit applications to the BLM, Bureau of Reclamation, and National Park Service in its final license application.

In compliance with the National Environmental Policy Act of 1969, as amended, and the Federal Land Policy and Management Act of 1976, as amended, the BLM, Arizona Strip Field Office, St. George, Utah, intends to consider amending a portion of the Arizona Strip Field Office Resource Management Plan (RMP) to allow development of the Lake Powell Pipeline within the Kanab Creek Area of Critical Environmental Concern. The EIS will analyze both the proposed Lake Powell Pipeline Project and the proposed RMP amendment. The BLM will conduct its own scoping process to solicit public comments and identify issues.

m. A copy of the application is available for review at the Commission in the Public Reference Room or may be viewed on the Commission's website at http://www.ferc.gov using the “eLibrary” link. Enter the docket number excluding the last three digits in the docket number field to access the document. For assistance, contact FERC Online Support. A copy is also available for inspection and reproduction at the address in item h above.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

Dated: December 11, 2017.
Kimberly D. Bose,
Secretary.

[FR Doc. 2017-27173 Filed 12-15-17; 8:45 am]

BILLING CODE 6717-01-P